DEPARTMENT OF HOMELAND SECURITY

Coast Guard

[Docket Number USCG-202-0172]

Port Access Route Study: Seacoast of New Jersey Including Offshore Approaches to the Delaware Bay, Delaware

AGENCY: Coast Guard, DHS.

ACTION: Notice of availability of draft report; request for comments.

SUMMARY: On May 5, 2020, the Coast Guard published a notice of study and request for comments (85 FR 26695), announcing a Port Access Route Study (PARS) for the Seacoast of New Jersey Including Offshore Approaches to the Delaware Bay, Delaware. This notice announces the availability of a draft report for public review and comment. We seek your comments on the content, proposed routing measures, and development of the report. The recommendations of the study may lead to future rulemakings or appropriate international agreements.

DATES: Your comments and related material must reach the Coast Guard on or before October 25, 2021.

ADDRESSES: You may submit comments identified by docket number USCG-2020-0172 using the Federal Decision Making Portal at https://www.regulations.gov. See the “Public Participation and Request for Comments” portion of the SUPPLEMENTARY INFORMATION section for further instructions on submitting comments.

FOR FURTHER INFORMATION CONTACT: If you have questions about this notice or study, call or email Mr. Jerry Barnes, Fifth Coast Guard District (dpw), U.S. Coast Guard; telephone (757) 398-6230, email Jerry.R.Barnes@uscg.mil.

SUPPLEMENTARY INFORMATION:

I. Table of Abbreviations

AIS—Automated Information System

DHS—Department of Homeland Security

FR—Federal Register

NEPA—National Environmental Policy Act

PARS—Port Access Route Study

ACPARS—Atlantic Coast Ports Access Route Study

U.S.C.—United States Code

WEA—Wind Energy Area

II. Background and Purpose

The Ports and Waterways Safety Act (46 U.S.C. 70003(c)) requires the Coast Guard to conduct a PARS, i.e., a study of potential traffic density and the need for safe access routes for vessels. Through the study process, the Coast Guard coordinates with Federal, State, local, tribal and foreign state agencies (as appropriate) to consider the views of maritime community representatives, environmental groups, and other interested stakeholders. The primary purpose of this coordination is, to the extent practicable, to reconcile the need for safe access routes with other reasonable waterway uses such as construction and operation of renewable energy facilities and other uses of the Atlantic Ocean in the study area.

In 2019, the Coast Guard announced a supplemental study of routes used by all vessels to access ports on the Atlantic Coast of the United States (84 FR 9541, March 15, 2019). This notice announced PARS for specific port approaches and international transit areas along the Atlantic Coast. The purpose of the supplemental studies is to align the Atlantic Coast Port Access Route Study (ACPARS) (81 FR 13307, March 14, 2016) with port approaches. The ACPARS analyzed the Atlantic Coast waters seaward of existing port approaches within the U.S. Exclusive Economic Zone and was finalized in 2017 (82 FR 16510, April 5, 2017).

The purpose of this notice is to announce the availability of the draft PARS examining the seacoast of New Jersey and the offshore approaches to the Delaware Bay, Delaware. We encourage you to participate in the study process by submitting comments in response to this notice. This PARS used AIS data and information from stakeholders to identify and verify customary navigation routes as well as potential conflicts involving alternative activities, such as wind energy generation and offshore mineral exploitation and exploration off the seacoast of New Jersey and in the offshore approaches to the Delaware Bay, Delaware.

The study area extends approximately 175 nautical miles seaward of the seacoast of New Jersey, Delaware, and Maryland between Sandy Hook, New Jersey, and Ocean City, Maryland. An illustration showing the study area is available in the docket where indicated under ADDRESSES. Additionally, the study area is available for viewing on the Mid-Atlantic Ocean Data Portal at http://portal.midatlanticocean.org/visualize/. See the “Maritime” portion of the Data Layers section.

On May 5, 2020, the Coast Guard published a Notice of Study; request for comments entitled “Port Access Route Study: Seacoast of New Jersey Including Offshore Approaches to the Delaware Bay, Delaware” in the Federal Register (85 FR 26695). The initial comment period closed on July 5, 2020. The Coast Guard conducted two virtual public meetings on October 29 and November 4, 2020. Recordings of the public meetings are available from the docket. The comment period re-opened through November 10, 2020. The Coast Guard also conducted outreach with port partners during this time.

IV. Information Requested

PARS are the means by which program managers determine the need to establish traffic routing measures or shipping safety fairways to reduce the risk of collision, allision and grounding, and their impact on the environment, increase the efficiency and predictability of vessel traffic, and preserve the paramount right of navigation while continuing to allow for other reasonable waterway uses. The study analyzes current routing measures around the approaches to Delaware Bay and proposes an adequate way to manage forecasted maritime traffic growth. The study also reviewed coastal port access from the seacoast of New Jersey and the co-dependent use of the waters in support of future development.

The Coast Guard received 34 comments in response to our Federal Register notice and other outreach efforts. All comments and supporting documents are available in a public docket and can be viewed at http://www.regulations.gov. To do so, go to https://www.regulations.gov, type USCG-2020-0172 in the “SEARCH” box and click “SEARCH.” Next, look for this document in the Search Results column, and click on it. These comments were submitted by commercial maritime operators, including fishing vessel operators, state, and port partners. Topics covered by these comments included support and requests for additional routing measures around WEAs, requests for collaboration with state organizations, and requests for NEPA compliance and Environmental Impact Studies to be completed. A synopsis of the comments and copies of the Coast Guard's Public outreach can be found in the report.

As a result of the data analysis within this study and considering the comments received the Coast Guard proposes six modified or additional measures for consideration by the public. We seek your input on these proposals and welcome comment on any impact to vessel transit time, fishing activity, and/or navigation safety. All comments received will be reviewed and considered before a final version of the PARS is announced in the Federal Register. This notice is published under the authority of 46 U.S.C. 70004 and 5 U.S.C. 552(a).

V. Public Participation and Request for Comments

Submitting comments. We encourage you to submit comments through the Federal Decision Making Portal at https://www.regulations.gov. To do so, go to https://www.regulations.gov, type USCG-202-0172 in the search box and click “Search.” Next, look for this document in the Search Results column, and click on it. Then click on the Comment option. If you cannot submit your material by using https://www.regulations.gov, call or email the person in the FOR FURTHER INFORMATION CONTACT section of this notice for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Dated: September 13, 2021.
Laura M. Dickey,
Rear Admiral, U.S. Coast Guard, Commander, Fifth Coast Guard District.

[FR Doc. 2021-20797 Filed 9-23-21; 8:45 am]

BILLING CODE 9110-04-P